DEPARTMENT OF ENERGY

Federal Energy Regulatory Commission

[Docket No. CP02-4-000]

Northwest Pipeline Corporation; Notice of Intent To Prepare an Environmental Assessment for the Proposed Evergreen Expansion Project and Request for Comments on Environmental Issues

November 2, 2001.

The staff of the Federal Energy Regulatory Commission (FERC or Commission) will prepare an environmental assessment (EA) that will discuss the environmental impacts of the Evergreen Expansion Project involving construction and operation of facilities by Northwest Pipeline Corporation (NWP) in Skagit, King, Pierce, Whatcom, Snohomish, and Lewis Counties, Washington.¹ NWP proposes to construct four, 36-inch-diameter pipeline loop segments totaling approximately 27.8 miles along with appurtenant facilities, and 67,150 ISO horsepower of additional compression at five different facilities. This EA will be used by the Commission in its decision-making process to determine whether the project is in the public convenience and necessity.

¹ NWP's application was filed with the Commission under section 7 of the Natural Gas Act and Part 157 of the Commission's regulations.

If you are a landowner receiving this notice, you may be contacted by a pipeline company representative about the presence of an existing pipeline easement. The majority of the existing pipeline has an associated 75-foot-wide permanent right-of-way and the majority of the new pipeline would not require an expansion of permanent right-of-way. However, in areas where NWP's existing permanent right-of-way is 60- or 40-feet wide, an additional 15- or 35-feet of easement would be sought.

A fact sheet prepared by the FERC entitled “An Interstate Natural Gas Facility On My Land? What Do I Need To Know?” was attached to the project notice NWP provided to landowners. This fact sheet addresses a number of typically asked questions, including the use of eminent domain and how to participate in the Commission's proceedings. It is available for viewing on the FERC Internet website (www.ferc.gov).

Summary of the Proposed Project

NWP wants to expand its existing pipeline system for the transportation of additional volumes of natural gas within the Skagit, King, Pierce, Whatcom, Snohomish, Skamania, Klickitat, and Benton Counties, Washington. Specifically, NWP seeks authority to:

1. Abandon and remove 2 existing reciprocating compressor units of 5000 horsepower (HP) each at the existing Snohomish Compressor Station;

2. Abandon and remove existing compressor unit 6,350 HP at the existing Sumner Compressor Station;

3. Construct 8.54 miles of 36-inch-diameter pipeline (Sedro-Wooley Loop);

4. Construct 8.88 miles of 36-inch-diameter pipeline (Mt. Vernon Loop);

5. Construct 6.95 miles of 36-inch-diameter pipeline (Covington Loop);

6. Construct 3.42 miles of 36-inch-diameter pipeline (Auburn Loop)

7. Construct a new 13,000 HP turbine unit and uprate 2 turbine engines from 12,600 HP to 13,000 HP each at its existing Sumas Compressor Station;

8. Construction a new 13,000 HP turbine unit and one new 4,700 HP turbine unit at its existing Mt. Vernon Compressor Station;

9. Construct 2 new 13,000 HP turbine units each at its Snohomish Compressor Station;

10. Construct 2 new turbine units 13,000 HP each at the existing Sumner Compressor Station

11. Construct a new 7,700 HP turbine unit at its existing Willard Compressor Station;

12. Construct a new 7,700 HP turbine unit at the existing Goldendale Compressor Station;

13. Construct a new 7,700 HP turbine unit at its existing Roosevelt Compressor Station; and

14. Construct a new 1,330 HP turbine unit at its existing Plymouth Compressor Station.

The location of the project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 334.1 acres of land. The typical construction right-of-way would consist of the 75-foot-wide permanent right-of-way and about 20 feet of temporary workspace, but in certain areas, may be limited to the permanent 75-foot easement.

The EA Process

The National Environmental Policy Act (NEPA) requires the Commission to take into account the environmental impacts that could result from an action whenever it considers the issuance of a Certificate of Public Convenience and Necessity. NEPA also requires us³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land use

• Cultural resources

• Air quality and noise

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by NWP. This preliminary list of issues may be changed based on your comments and our analysis.

• Small portions of the loop pipelines would be located on NWP-owned lands on the Muckleshoot Indian Reservation, Washington Department of Natural Resources land, or Skagit County land.

• The project would cross a total of 25 waterbodies and about 98 wetlands.

• Of the waterbodies crossed, some may contain domestic water rights; and some may have critical habitat designations for the Federally listed chinook and/or coho salmon.

• 15 federally listed endangered, threatened, or candidate species and four state-protected species may occur in the project area.

• A total of 33 residences are located within 50 feet of the construction right-of-way or temporary extra workspaces. Of these landowners, about 24 structures are within 25 feet of the construction area.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas/Hydro.

• Reference Docket No. CP02-004-000.

• Mail your comments so that they will be received in Washington, DC on or before December 3, 2001.

Comments may also be filed electronically via the Internet in lieu of paper. See 18 CFR 385.2001(a)(1)(iii) and the instructions on the Commission's web site at http://www.ferc.gov under the link to the User's Guide. Before you can file comments you will need to create an account by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 01-28026 Filed 11-7-01; 8:45 am]

BILLING CODE 6717-01-P